DEPARTMENT OF HOMELAND SECURITY

Coast Guard

33 CFR Part 117

[USCG-2010-0819]

Drawbridge Operation Regulation; Trent River, New Bern, NC

AGENCY: Coast Guard, DHS.

ACTION: Notice of temporary deviation from regulations.

SUMMARY: The Commander, Fifth Coast Guard District, has issued a temporary deviation from the regulations governing the operation of the US70 (Alfred C. Cunningham) Bridge across Trent River, mile 0.0, at New Bern, NC, to accommodate a Bridge Run. This deviation allows the drawbridge to be maintained in the closed position to vessels at specific date and times.

DATES: This deviation is effective from 6 a.m. to 11 a.m. on Saturday, October 16, 2010.

ADDRESSES: Documents mentioned in this preamble as being available in the docket are part of docket USCG-2010-0819 and are available online by going to http://www.regulations.gov, inserting USCG-2010-0819 in the “Keyword” box and then clicking “Search. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Sandra S. Elliott, Bridge Management Specialist, Fifth Coast Guard District; telephone 757-398-6557, e-mail Sandra.S.Elliott@uscg.mil. If you have questions on viewing the docket, call Renee V. Wright, Program Manager, Docket Operations, telephone 202-366-9826.

SUPPLEMENTARY INFORMATION: The US70 (Alfred C. Cunningham) Bridge a bascule lift bridge across Trent River, at mile 0.0, has a vertical clearance in the closed position to vessels of approximately 14 feet above mean high water.

On behalf of the Neuse River Bridge Run Organization and the City of New Bern NC, the North Carolina Department of Transportation has requested a temporary deviation from the current operating regulations of the bridge set out in 33 CFR 117.843 (a) to accommodate the Bridge Run schedule for Saturday, October 16, 2010.

Under this deviation, the drawbridge would be allowed to remain in the closed-to-navigation position from 6 a.m. to 11 a.m. to vessels on Saturday, October 16, 2010, to accommodate the Bridge Run.

The Coast Guard will inform the users of the waterway through our Local and Broadcast Notices to Mariners of the closure period for the bridge so that vessels can arrange their transits to minimize any impact caused by the temporary deviation. There are no alternate routes for vessels transiting this section of the Trent River and the drawbridge will be able to open in the event of an emergency.

In accordance with 33 CFR 117.35(e), the drawbridge must return to its regular operating schedule immediately at the end of the designated time period. This deviation from the operating regulation is authorized under 33 CFR 117.35.

Dated: August 27, 2010.
Waverly W. Gregory, Jr.,
Chief, Bridge Administration Branch, Fifth Coast Guard District.

[FR Doc. 2010-22416 Filed 9-8-10; 8:45 am]

BILLING CODE 9110-04-P